DEPARTMENT OF COMMERCE

Foreign-Trade Zones Board

[Order No. 1646]

Expansion of Foreign-Trade Zone 65, Panama City, FL

Pursuant to its authority under the Foreign-Trade Zones Act of June 18, 1934, as amended (19 U.S.C. 81a-81u), the Foreign-Trade Zones Board (the Board) adopts the following Order:

Whereas, the Panama City Port Authority, grantee of Foreign-Trade Zone 65, submitted an application to the Board for authority to expand FTZ 65 to include two sites in Chipley, Florida, and expand existing Site 3 in Panama City, Florida, adjacent to and within the Panama City Customs and Border Protection port of entry, respectively (FTZ Docket 71-2008, filed 12/16/2008);

Whereas, notice inviting public comment has been given in the Federal Register (73 FR 79048, 12/24/2008) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 65 is approved, subject to the FTZ Act and the Board's regulations, including Section 400.28.

Signed at Washington, DC, this 25th day of September 2009.
Ronald K. Lorentzen,
Acting Assistant Secretary of Commerce for Import Administration, Alternate Chairman, Foreign-Trade Zones Board.
Pierre Duy,
Acting Executive Secretary.

[FR Doc. E9-24970 Filed 10-15-09; 8:45 am]

BILLING CODE P